RAILROAD RETIREMENT BOARD

Sunshine Act Meetings

TIME AND DATE: 10:00 a.m., August 25, 2021.

PLACE: Members of the public wishing to attend the meeting must submit a written request at least 24 hours prior to the meeting to receive dial-in information. All requests must be sent to SecretarytotheBoard@rrb.gov.

STATUS: This meeting will be open to the public.

MATTERS TO BE CONSIDERED:

(1) Payroll Tax Reimbursement from the IRS

(2) Pay For Time Lost (PFTL) Reporting Proposals:

Proposal for BA-4 revision to identify PFTL

Proposal for agency expansion of industry audits to include proper reporting of PFTL

(3) New proposals for improvements in communications to the public

(4) Update on status of appeals

CONTACT PERSON FOR MORE INFORMATION: Stephanie Hillyard, Secretary to the Board, (312) 751-4920.

Authority: 5 U.S.C. 552b.

Dated: August 11, 2021.
Stephanie Hillyard,
Secretary to the Board.

[FR Doc. 2021-17482 Filed 8-11-21; 11:15 am]

BILLING CODE 7905-01-P